DEPARTMENT OF AGRICULTURE

Animal and Plant Health Inspection Service

[Docket No. APHIS-2009-0008]

Availability of an Environmental Assessment and Finding of No Significant Impact for a Biological Control Agent for Russian Knapweed

AGENCY: Animal and Plant Health Inspection Service, USDA.

ACTION: Notice.

SUMMARY: We are advising the public that an environmental assessment and finding of no significant impact have been prepared by the Animal and Plant Health Inspection Service relative to the release of a gall midge, Jaapiella ivannikovi, into the continental United States for use as a biological control agent to reduce the severity of Russian knapweed infestations. Based on its finding of no significant impact, the Animal and Plant Health Inspection Service has determined that an environmental impact statement need not be prepared.

FOR FURTHER INFORMATION CONTACT: Dr. L. Carmen Soileau, Senior Staff Entomologist, Permits, Registrations, Imports, and Manuals, PPQ, APHIS, 4700 River Road, Unit 133, Riverdale, MD 20737-1237; (866) 524-5421.

SUPPLEMENTARY INFORMATION:

Background

The Animal and Plant Health Inspection Service (APHIS) is proposing to issue permits for the release of a gall midge, Jaapiella ivannikovi, into the continental United States for use as a biological control agent to reduce the severity of Russian knapweed (Acroptilon repens) infestations.

Russian knapweed is a long-lived perennial in the plant tribe Asteraceae (sunflower, aster, or daisy family). The highly invasive weed was first introduced into North America in 1898. By 1998, the weed had spread to 313 counties in 45 of the 48 contiguous States in the United States with 80 percent of the infestation occurring in the States of Colorado, Idaho, Washington, and Wyoming.

The proposed biological control agent, J.ivannikovi, is an insect measuring 1.6 to 2.5 mm in length with relatively large wings, long legs, and a long ovipositor (egg-laying organ) that can be extended from the tip of the abdomen. The female gall midge deposits its eggs on the surface of the buds situated on the tips of the main and side shoots of the Russian knapweed. Larval feeding causes stunted growth of the shoot and fusion of leaves, resulting in a so-called “rosette gall.”

On March 12, 2009, we published in the Federal Register (74 FR 10707-10708, Docket No. APHIS-2009-0008) a notice ¹ in which we announced the availability, for public review and comment, of an environmental assessment (EA) that examined the potential environmental impacts associated with the proposed release of this biological control agent into the continental United States.

¹ To view the notice, environmental assessment, finding of no significant impact, and the comment we received, go to http://www.regulations.gov/fdmspublic/component/main?main=DocketDetail&d=APHIS-2009-0008.

We solicited comments on the EA for 30 days ending April 14, 2009. We received one comment by that date, from the Tribal Historic Preservation Officer of the Bois Forte Band of Ojibwe in Minnesota. The commenter indicated her disagreement with biological control in general, but did not raise any specific issues regarding the content of the EA on the release of the particular organism under consideration.

In this document, we are advising the public of our finding of no significant impact (FONSI) regarding the release of the gall midge J. ivannikovi into the continental United States for use as a biological control agent to reduce the severity of Russian knapweed infestations. The finding, which is based on the EA, reflects our determination that release of this biological control agent will not have a significant impact on the quality of the human environment.

The EA and FONSI may be viewed on the Regulations.gov Web site (see footnote 1). Copies of the EA and FONSI are also available for public inspection at USDA, room 1141, South Building, 14th Street and Independence Avenue, SW., Washington, DC, between 8 a.m. and 4:30 p.m., Monday through Friday, except holidays. Persons wishing to inspect copies are requested to call ahead on (202) 690-2817 to facilitate entry into the reading room. In addition, copies may be obtained by writing to the individual listed under FOR FURTHER INFORMATION CONTACT.

The EA and FONSI have been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

Done in Washington, DC, this 23rd day of June 2009.
Kevin Shea,
Acting Administrator, Animal and Plant Health Inspection Service.

[FR Doc. E9-15307 Filed 6-26-09; 8:45 am]

BILLING CODE 3410-34-P